DEPARTMENT OF DEFENSE

Department of the Navy

Notice of Intent To Grant Exclusive Patent License; SWORD Diagnostics

AGENCY: Department of the Navy, DoD.

ACTION: Notice.

SUMMARY: The Department of the Navy hereby gives notice of its intent to grant to SWORD Diagnostics, a revocable, nonassignable, exclusive license, to practice in the fields of rapid detection of pathogens for food safety; drinking water and process water; and human and veterinary diagnostic markets in the United States and certain foreign countries, the Government-owned invention described in U.S. Provisional Patent Application No. 60/601,180: Scanned Wavelength Spectroscopic Detector (SWSD) for Identifying Biological Cells and Organisms, Navy Case No. 96,640.

DATES: Anyone wishing to object to the grant of this license must file written objections along with supporting evidence, if any, not later than February 18, 2005.

ADDRESSES: Written objections are to be filed with the Naval Research Laboratory, Code 1004, 4555 Overlook Avenue, SW., Washington, DC 20375-5320.

FOR FURTHER INFORMATION CONTACT: Ms. Jane Kuhl, Head, Technology Transfer Office, NRL Code 1004, 4555 Overlook Avenue, SW., Washington, DC 20375-5320, telephone (202) 767-3083. Due to U.S. Postal delays, please fax (202) 404-7920, e-Mail: kuhl@utopia.nrl.navy.mil or use courier delivery to expedite response.

(Authority: 35 U.S.C. 207, 37 CFR Part 404.)

Dated: January 28, 2005.
I.C. Le Moyne Jr.,
Lieutenant, Judge Advocate General's Corps, U.S. Navy, Alternate Federal Register Liaison Officer.

[FR Doc. 05-2047 Filed 2-2-05; 8:45 am]

BILLING CODE 3810-FF-P